DEPARTMENT OF ENERGY

Federal Energy Regulatory Commission

[Docket No. EG01-38-000]

SEI Michigan, L.L.C.; Notice of Application for Commission Determination of Exempt Wholesale Generator Status

December 6, 2000.

Take notice that on December 1, 2000, SEI Michigan, L.L.C. (SEI Michigan), 1155 Perimeter Center West, Atlanta, Georgia 30338, filed with the Federal Energy Regulatory Commission an application for determination of exempt wholesale generator status pursuant to Part 365 of the Commission's regulations.

SEI Michigan is a Delaware limited liability company that intends to construct own, and operate a 298 MW generation facility at a site in Zeeland, Michigan. SEI Michigan is engaged directly and exclusively in the business of owning or operating, or both owning and operating, all or part of one or more eligible facilities and selling electric energy at wholesale.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before December 27, 2000, and must be served on the applicant. Any person wishing to become a party must file a motion to intervene. Copies of this filing are on file with the Commission and are available for public inspection or on the Internet at http://www.ferc.fed.us/online/rims.htm (please call (202) 208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31572 Filed 12-11-00; 8:45 am]

BILLING CODE 6717-01-M